DEPARTMENT OF COMMERCE

Patent and Trademark Office

Patent and Trademark Financial Transactions

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before June 11, 2007.

ADDRESSES: You may submit comments by any of the following methods:

• E-mail: Susan.Fawcett@uspto.gov. Include “0651-0043 comment” in the subject line of the message.

• Fax: 571-273-0112, marked to the attention of Susan Fawcett.

• Mail: Susan K. Fawcett, Records Officer, Office of the Chief Information Officer, Customer Information Services Group, Public Information Services Division, U.S. Patent and Trademark Office, P.O. Box 1450, Alexandria, VA 22313-1450.

FOR FURTHER INFORMATION CONTACT: Requests for additional information should be directed to Tamara McClure, Office of Finance, U.S. Patent and Trademark Office, P.O. Box 1450, Alexandria, VA 22313-1450; by telephone at 571-272-6345; or by e-mail to Tamara.McClure@uspto.gov.

SUPPLEMENTARY INFORMATION:

I. Abstract

Under 35 U.S.C. 41 and 15 U.S.C. 1113, the USPTO charges fees for processing and other services related to patents, trademarks, and information products. Customers may submit payments to the USPTO by several methods, including by credit card, deposit account, and electronic funds transfer (EFT). The provisions of 35 U.S.C. 41 and 15 U.S.C. 1113 are implemented in 37 CFR 1.16-1.28, 2.6-2.7, and 2.206-2.209.

The USPTO is developing a pilot program that will allow customers to access and manage their financial activity records online. Customers will be able to create a Financial Profile through the USPTO Web site by registering a username and password, providing contact information, and specifying the types of notifications and alerts they would like to receive. After establishing a Financial Profile, customers may then add the relevant account information to the profile in order to track their credit card, deposit account, and EFT transactions with the USPTO.

In the future, customers will also be able to use their Financial Profiles to perform transactions with the USPTO by using their previously stored account information. The Financial Profiles are being added to this information collection.

II. Method of Collection

By mail, facsimile, hand delivery, or electronically to the USPTO. Information for Financial Profiles will be collected electronically through the USPTO Web site.

III. Data

OMB Number: 0651-0043.

Form Number(s): PTO-2038, PTO-2231, PTO-2232, PTO-2233, PTO-2234, PTO-2236.

Type of Review: Revision of a currently approved collection.

Affected Public: Individuals or households; businesses or other for-profits; and not-for-profit institutions.

Estimated Number of Respondents: 1,929,205 responses per year, including 500 responses per year for Financial Profiles.

Estimated Time Per Response: The USPTO estimates that it will take the public approximately two to four minutes (0.03 to 0.07 hours) to prepare and submit the existing items in this collection. The USPTO estimates that it will take the public approximately six minutes (0.10 hours) to complete and submit a Financial Profile.

Estimated Total Annual Respondent Burden Hours: 58,166 hours per year, including 50 hours per year for Financial Profiles.

Estimated Total Annual Respondent Cost Burden: $2,617,470 per year. The USPTO expects that 75% of the submissions for this information collection will be prepared by fee administrators/coordinators and that 25% of the submissions will be prepared by paraprofessionals. Using those proportions and the estimated rates of $30 per hour for fee administrators/coordinators and $90 per hour for paraprofessionals, the USPTO estimates that the average rate for all respondents will be approximately $45 per hour. Using this estimated rate of $45 per hour, the USPTO estimates that the respondent cost burden for submitting the information in this collection will be approximately $2,617,470 per year, including $2,250 in respondent cost burden for the Financial Profiles.

Item | Estimated time for response (minutes) | Estimated annual responses | Estimated annual burden hours
Financial Profiles | 6 | 500 | 50
Total |  | 500 | 50

Estimated Total Annual Non-hour Respondent Cost Burden: $237,168. This collection is currently approved with a total of $237,168 in annual (non-hour) cost burden in the form of service fees for deposit accounts and returned payments, postage costs for mailing submissions to the USPTO, and recordkeeping costs related to electronic credit card payments and electronic deposit account replenishments. There are no additional annual costs associated with the Financial Profiles.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: April 3, 2007.
Susan K. Fawcett,
Records Officer, USPTO, Office of the Chief Information Officer, Customer Information Services Group, Public Information Services Division.

[FR Doc. E7-6731 Filed 4-9-07; 8:45 am]

BILLING CODE 3510-16-P